ENVIRONMENTAL PROTECTION AGENCY

40 CFR Part 52

[IN128-1b; FRL-6713-2]

Approval and Promulgation of Implementation Plan; Indiana

AGENCY: Environmental Protection Agency (EPA).

ACTION: Proposed rule.

SUMMARY: EPA is proposing to approve revised opacity limits for three casting complexes at ALCOA Warrick Operations, which were submitted by the Indiana Department of Environmental Management (IDEM) on January 13, 2000 as amendments to its State Implementation Plan (SIP). ALCOA Warrick Operations is a primary aluminum smelter located in Newburgh, Indiana. The revised limits allow higher opacity emissions during fluxing operations at three casting complexes. This action does not reverse applicable mass emissions limits.

DATES: EPA must receive written comments by August 4, 2000.

ADDRESSES: You should mail written comments to: J. Elmer Bortzer, Chief, Regulation Development Section, Air Programs Branch (AR-18J), U.S. Environmental Protection Agency, Region 5, 77 West Jackson Boulevard, Chicago, Illinois 60604.

You may inspect copies of the State submittal and EPA's analysis of it at: Regulation Development Section, Air Programs Branch (AR-18J), U.S. Environmental Protection Agency, Region 5, 77 West Jackson Boulevard, Chicago, Illinois 60604.

FOR FURTHER INFORMATION CONTACT: David Pohlman, Environmental Scientist, Regulation Development Section, Air Programs Branch (AR-18J), U.S. Environmental Protection Agency, Region 5, 77 West Jackson Boulevard, Chicago, Illinois 60604, (312) 886-3299.

SUPPLEMENTARY INFORMATION: Throughout this document wherever “we,” “us,” or “our” are used we mean EPA.

Table of Contents

I. What action is EPA taking today?

II. Where can I find more information about this proposal and the corresponding direct final rule?

I. What Action Is EPA Taking Today?

We are proposing to approve revised opacity limits for three casting complexes at ALCOA Warrick Operations, which were submitted by IDEM on January 13, 2000. The revised limits allow for higher opacity emissions during fluxing operations at three casting complexes.

II. Where Can I Find More Information About This Proposal and the Corresponding Direct Final Rule?

For additional information see the direct final rule published in the rules section of this Federal Register.

Dated: May 31, 2000.
David A. Ullrich,
Acting Regional Administrator, Region 5.

[FR Doc. 00-16362 Filed 7-3-00; 8:45 am]

BILLING CODE 6560-50-P